DEPARTMENT OF THE INTERIOR

National Park Service

[NPS-WASO-NAGPRA-NPS0037195; PPWOCRADN0-PCU00RP14.R50000]

Notice of Inventory Completion: U.S. Department of the Interior, National Park Service, Yosemite National Park, El Portal, CA

AGENCY: National Park Service, Interior.

ACTION: Notice.

SUMMARY: In accordance with the Native American Graves Protection and Repatriation Act (NAGPRA), the U.S. Department of the Interior, National Park Service, Yosemite National Park (YOSE) has completed an inventory of human remains and has determined that there is a cultural affiliation between the human remains and Indian Tribes or Native Hawaiian organizations in this notice. The human remains were removed from Mariposa County, CA.

DATES: Repatriation of the human remains in this notice may occur on or after February 7, 2024.

ADDRESSES: Cicely Muldoon, Superintendent, Yosemite National Park, 9039 Village Drive, Yosemite National Park, CA 95389, telephone (202) 372-8181, email cicely_muldoon@nps.gov.

SUPPLEMENTARY INFORMATION: This notice is published as part of the National Park Service's administrative responsibilities under NAGPRA. The determinations in this notice are the sole responsibility of the Superintendent, YOSE. Additional information on the determinations in this notice, including the results of consultation, can be found in the inventory or related records held by YOSE.

Description

Human remains representing, at minimum, one individual were removed from an unknown site in Mariposa County, CA, in the 1930s by a California Conservation Crew working in the Crane Flat area. The human remains were identified at the time of discovery as Native American by a physical anthropologist and were turned over to the Yosemite Museum by Gus Eastman, the park ranger overseeing the crew. No associated funerary objects are present.

Human remains representing, at minimum, one individual were removed from an unknown site in the Cascades area in Mariposa County, CA, in the 1930s. The human remains were identified at the time of discovery as Native American by a physical anthropologist and were turned over by a donor named Edward L. Eidem. No associated funerary objects are present.

Human remains representing, at minimum, three individuals were removed from CA-MRP-301 in Mariposa County, CA in 1988 during heavy equipment excavation of a trench for a National Park Service electrical line. An examination by a physical anthropologist determined that these human remains are Native American and were buried approximately 800 years ago. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological information, biological information, geographical information, historical information, and expert opinion.

Determinations

Pursuant to NAGPRA and its implementing regulations, and after consultation with the appropriate Indian Tribes and Native Hawaiian organizations, YOSE has determined that:

• The human remains described in this notice represent the physical remains of five individuals of Native American ancestry.

• There is a relationship of shared group identity that can be reasonably traced between the human remains described in this notice and the Bishop Paiute Tribe; Bridgeport Indian Colony; Northfork Rancheria of Mono Indians of California; Picayune Rancheria of Chukchansi Indians of California; and the Tuolumne Band of Me-Wuk Indians of the Tuolumne Rancheria of California.

Requests for Repatriation

Written requests for repatriation of the human remains in this notice must be sent to the Responsible Official identified in ADDRESSES. Requests for repatriation may be submitted by:

1. Any one or more of the Indian Tribes identified in this notice and, if joined to a request from one or more of the Indian Tribes, the Southern Sierra Miwuk Nation, and Mono Lake Kootzaduka'a Tribe, non-federally recognized Indian groups.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 7, 2024. If competing requests for repatriation are received, YOSE must determine the most appropriate requestor prior to repatriation. Requests for joint repatriation of the human remains are considered a single request and not competing requests. YOSE is responsible for sending a copy of this notice to the Indian Tribes and Native Hawaiian organizations identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00124 Filed 1-5-24; 8:45 am]

BILLING CODE 4312-52-P